DEPARTMENT OF STATE

[Public Notice 3369]

Culturally Significant Objects Imported for Exhibition Determinations: “Silver in Ancient Peru”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the object to be included in the exhibition “Silver in Ancient Peru,” imported from abroad for the temporary exhibition without profit within the United States, is of cultural significance. The object is imported pursuant to a loan agreement with the foreign lender. I also determine that the exhibition or display of the exhibit object at the Metropolitan Museum of Art in New York from on or about November 3, 2000 to on or about April 22, 2001, is in the national interest. Public Notice of these Determinations is ordered to be published in the Federal Register.

FOR FURTHER INFORMATION CONTACT: For further information, including a list of the exhibit object, contact Paul Manning, Attorney-Adviser, Office of the Legal Adviser, U.S. Department of State (telephone: 202/619-5997). The address is U.S. Department of State, SA-44, 301 4th Street, S.W., Room 700, Washington, DC 20547-0001.

Dated: July 18, 2000.
Helena Kane Finn,
Acting Assistant Secretary for Educational and Cultural Affairs, Department of State.

[FR Doc. 00-18782 Filed 7-24-00; 8:45 am]

BILLING CODE 4710-08-P